DEPARTMENT OF TRANSPORTATION

Federal Motor Carrier Safety Administration

[Docket No. FMCSA 2016-0334]

Agency Information Collection Activities; Extension of a Currently-Approved Collection: Training Certification for Drivers of Longer Combination Vehicles

AGENCY: Federal Motor Carrier Safety Administration (FMCSA), DOT.

ACTION: Notice and request for comments.

SUMMARY: In accordance with the Paperwork Reduction Act of 1995 (PRA), FMCSA announces its plan to submit the Information Collection Request (ICR) described below to the Office of Management and Budget (OMB) for its review and approval. This ICR relates to the qualification of drivers to operate longer combination vehicles (LCVs). On October 14, 2016, FMCSA published a Federal Register notice announcing an increase in the Agency's estimate of the total information-collection (IC) burden of these driver training certifications and asked for public comment. One comment was received. The Agency's regulations have not changed, but the population of CMV drivers operating LCVs has increased since OMB approved this ICR on May 14, 2014.

DATES: Please send your comments by April 26, 2017. OMB must receive your comments by this date to act quickly on the ICR.

ADDRESSES: All comments should reference Federal Docket Management System (FDMS) Docket Number FMCSA-2016-0334. Interested persons are invited to submit written comments on the proposed information collection to the Office of Information and Regulatory Affairs, Office of Management and Budget. Comments should be addressed to the attention of the OMB Desk Officer, DOT/FMCSA, and sent via electronic mail to oira_submission@omb.eop.gov, faxed to (202) 395-6974, or mailed to the Office of Information and Regulatory Affairs, Office of Management and Budget, Docket Library, Room 10102, 725 17th Street NW., Washington, DC 20503.

FOR FURTHER INFORMATION CONTACT: Mr. Robert F. Schultz, FMCSA Driver and Carrier Operations Division, DOT, FMCSA, West Building 6th Floor, 1200 New Jersey Avenue SE., Washington, DC 20590. Telephone: 202-366-4325. Email: MCPSD@dot.gov.

SUPPLEMENTARY INFORMATION:

Title: Training Certification for Drivers of Longer Combination Vehicles.

OMB Control Number: 2126-0026.

Type of Request: Extension of a currently-approved information collection.

Respondents: Drivers who complete LCV training each year, current LCV drivers who submit their LCV Driver Training Certificate to prospective employers, and employers (motor carriers) receiving and maintaining copies of the LCV Driver-Training certificates of their drivers.

Estimated Number of Respondents: 59,684 consisting of 2,360 newly-certified LCV drivers plus 28,662 currently-certified LCV drivers plus 28,662 motor carriers employing LCV drivers.

Estimated Time per Response: 10 minutes for preparation of LCV Driver-Training Certificates for drivers who successfully complete the LCV training, and 10 minutes for activities associated with the LCV Driver-Training Certificate during the hiring process.

Expiration Date: May 31, 2017.

Frequency of Response: On occasion.

Estimated Total Annual Burden: 5,565 hours. The total number of drivers who will be subjected to these requirements each year is 31,022, consisting of 2,360 Newly-certified LCV drivers, and 28,662 currently-certified LCV drivers obtaining new employment. The total annual information collection burden is approximately 5,565 hours, consisting of 394 hours for preparation of LCV Driver-Training Certificates [2,360 drivers successfully completing LCV driver training × 10 minutes ÷ 60 minutes/hour] and 5,171 hours for requirements related to the hiring of LCV drivers [31,022 LCV drivers obtaining new employment × 10 minutes ÷ 60 minutes/hour].

Background

LCV is any combination of a truck-tractor and two or more semi-trailers or trailers that operates on the National System of Interstate and Defense Highways and has a gross vehicle weight greater than 80,000 pounds (49 CFR 380.105). To enhance the safety of LCV operations on our nation's highways, Section 4007(b) of the Motor Carrier Act of 1991 directed the Secretary of Transportation to establish Federal minimum training requirements for drivers of LCVs [Intermodal Surface Transportation Efficiency Act of 1991 (ISTEA), Pub. L. 102-240, 105 Stat. 1914, 2152, 49 USCA § 2302 NOTE]. The Secretary of Transportation delegated responsibility for establishing these requirements to FMCSA (49 CFR 1.87), and on March 30, 2004, after appropriate notice and solicitation of public comment, FMCSA established the current training requirements for operators of LCVs (69 FR 16722). The regulations bar motor carriers from permitting their drivers to operate an LCV if they have not been properly trained in accordance with the requirements of 49 CFR 380.113. Drivers receive an LCV Driver-Training Certificate upon successful completion of these training requirements. Motor carriers employing an LCV driver must verify the driver's qualifications to operate an LCV, and must maintain a copy of the LCV Driver-Training Certificate and present it to authorized Federal, State or local officials upon request.

The LCV regulations have not changed, but the Agency is increasing its estimate of the IC burden to 5,565 hours because the population of CMV drivers receiving LCV training and the number of drivers being certified to operate LCVs have both increased based upon U.S. Department of Labor data.

The Agency received one comment to the 60-day Federal Register notice of October 14, 2016. The comment did not address the paperwork burden; instead, it lamented the existence of the requirement that operators of LCVs receive specialized training. As explained above, the Motor Carrier Act of 1991 directed the Secretary of Transportation to establish these LCV training requirements.

Public Comments Invited

FMCSA requests that you comment on any aspect of this information collection, including: (1) Whether the proposed collection is necessary for FMCSA to perform its functions, (2) the accuracy of the estimated burden, (3) ways for the FMCSA to enhance the quality, usefulness, and clarity of the collected information, and (4) ways that the burden could be minimized without reducing the quality of the collected information.

Issued under the authority delegated in 49 CFR 1.87 on: March 20, 2017.
G. Kelly Regal,
Associate Administrator for Office of Research and Information Technology.

[FR Doc. 2017-05975 Filed 3-24-17; 8:45 am]

BILLING CODE 4910-EX-P